DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Project: Community Mental Health Services Block Grant Application Guidance and Instruction, FY 2009-2011 (OMB No. 0930-0168)—Revision

Sections 1911 through 1920 of the Public Health Services Act (42 U.S.C. 300x through 300x-9) provide for annual allotments to assist States to establish or expand an organized, community-based system of care for adults with serious mental illnesses and children with serious emotional disturbances. Under these provisions of the law, States may receive allotments only after an application is submitted and approved by the Secretary of the Department of Health and Human Services.

For the FY 2009-2011 Community Mental Health Services Block Grant application cycle, SAMHSA will provide States guidance and instructions to guide development of comprehensive State applications/plans and implementation reports. In order to develop this guidance, SAMHSA convened a working group of State representatives to provide input and suggestions regarding the organization and content of the guidance. To the extent possible, these suggestions were incorporated into proposed revisions for the 2009-2011 application cycle. These proposed revisions to the guidance include:

(1) Streamlining the process for reporting States' use of the block grant to support mental health transformation. Revisions to the FY2008 guidance required a new request for information regarding funding for mental health transformation. A number of States indicated that their fiscal processes did not permit reporting in the manner requested. Other States suggested that the reporting burden was significantly increased while the information provided did not accurately reflect the range of transformation activities they were engaged in.

This issue was the principal focus of the State working group, and the proposed FY2009-2011 guidance makes significant revisions based on the input of the group. The revisions include narrowing from 20 to six (6) the number of transformation categories for which States are asked to provide the amount of block grant funding used to support specific activities in FY2009. The new Table C which States are requested to complete follows:

| Column 1: Is MHBG funding used to support this goal? If yes, please check. | Column 2: If yes, please provide the actual or estimated amount of MHBG funding that will be used to support this transformation goal in FY2009.: Actual | Column 2: If yes, please provide the actual or estimated amount of MHBG funding that will be used to support this transformation goal in FY2009.: Estimated
GOAL 1: Americans Understand that Mental Health Is Essential to Overall Health
GOAL 2: Mental Health Care is Consumer and Family Driven
GOAL 3: Disparities in Mental Health Services are Eliminated
GOAL 4: Early Mental Health Screening, Assessment, and Referral to Services are Common Practice
GOAL 5: Excellent Mental Health Care Is Delivered and Research Is Accelerated
GOAL 6: Technology Is Used to Access Mental Health Care and Information
Total MHBG Funds | N/A

In addition to revising the transformation data table, the guidance makes additional changes, including: (a) Eliminating the requirement that transformation activities be tracked within the context of the five (5) block grant statutory criteria; (b) consolidating requests for narrative regarding transformation activities into a single section; and (c) eliminating redundancy by allowing States to refer to other sections that include similar material. In collaboration with the State working group, SAMHSA identified and eliminated requests for data regarding transformation activities that are collected through other State funding sources.

With these revisions, SAMHSA has simplified the reporting process for States while still ensuring that it receives data and information necessary to understand and monitor the role of the block grant in supporting State mental health transformation efforts.

(2) Reorganizing and consolidating sections of the guidance to improve readability and clarity and to reduce redundancy. For example, instructions regarding the general format of the application now are found in one section of the guidance. In addition, specific provisions in sections requiring applications to track the five (5) statutory criteria and in sections regarding reporting performance indicators in the State Implementation Report were reorganized to improve the logical flow of the application. In addition, the guidance clarifies that States may refer to other sections of the application where appropriate, rather than repeating identical information in multiple sections of the application. All sections of the guidance were edited for clarity.

(3) Eliminating Table 18 from the Uniform Reporting System (URS) tables that States must submit. The URS is a set of standardized tables designed to track individuals State performance over time and to aggregate State information to develop a national picture of State public mental health systems. Table 18 was intended to produce a profile of adults with schizophrenia receiving new generation medications during the year. A review of all URS tables determined that the data reported on table 18 is not comparable across States and has limited usefulness to CMHS or States in planning and improving mental health systems. In addition, Table 18 was reported to have the lowest amount of utility but the greatest reporting burden for States.

(4) Eliminating the requirement that States complete a State-Level Reporting Capacity Checklist for submission to the State Data Infrastructure Coordinating Center.

This MHBG Guidance has been developed based on current statute. The agency is aware that Congress is currently considering legislation to reauthorize SAMHSA. The reauthorization bill proposes substantive changes to the MHBG that would affect this Guidance. Upon passage of reauthorization legislation, the Center for Mental Health Services (CMHS) will contact States to provide additional guidance that may be needed to complete the MHBG application and Implementation Report. If significant changes to MHBG requirements, State plans, or data collection are included in the final reauthorization law, CMHS may revise and re-submit this guidance for public comment through the Federal Register.

SAMHSA is requesting approval of this guidance for FY 2009, 2010, and 2011. The 2007-2011 SAMHSA Data Strategy has just been released to the public. Goal #2 of the Data Strategy specifically deals with performance data and includes specific milestones for the next few years, including the development of client level outcome measures for the states by 2011. CMHS may revise and re-submit this guidance to reflect the adoption of client level measures for future block grant applications if sufficient progress is made over the next 3 years.

The following table summarizes the annual burden for the revised application.

Application | Number of respondents | Responses/ respondent | Burden response (hrs) | Total burden hours
Plan:
1 year | 44 | 1 | 180 | 7,920
2 year | 6 | 1 | 150 | 900
3 year | 9 | 1 | 110 | 900
Implementation Report | 59 | 1 | 75 | 4,425
URS Tables | 59 | 1 | 40 | 2,360
Total | 59 |  |  | 16,595

Send comments to Summer King, SAMHSA Reports Clearance Officer, Room 7-1044, One Choke Cherry Road, Rockville, MD 20857 and e-mail her a copy at summer.king@samhsa.hhs.gov. Written comments should be received within 60 days of this notice.

Dated: January 22, 2008.
Elaine Parry,
Acting Director, Office of Program Services.

[FR Doc. E8-1484 Filed 1-28-08; 8:45 am]

BILLING CODE 4162-20-P